DEAPRTMENT OF ENERGY

Federal Energy Regulatory Commission

[Docket No. RP04-274-000]

Kern River Gas Transmission Company; Notice of Informal Settlement Conference

January 25, 2005.

Take notice that an informal settlement conference will be convened in this proceeding commencing at 10:00 am (EST) on Wednesday, February 2, 2005 at the Federal Energy Regulatory Commission, 888 First Street, NE., Washington, DC 20426, for the purpose of exploring a possible settlement in the above-referenced proceeding.

Any party, as defined by 18 CFR 385.102(c), or any participant as defined by 18 CFR 385.102(b), is invited to attend. Persons wishing to become a party must move to intervene and receive intervenor status pursuant to the Commission's regulations (18 CFR 385.214).

For additional information, please contact Thomas J. Burgess (202-502-6058).

Magalie R. Salas,
Secretary.

[FR Doc. E5-381 Filed 2-1-05; 8:45 am]

BILLING CODE 6717-01-P